DEPARTMENT OF THE INTERIOR

Fish and Wildlife Service

Notice of Availability of a Draft Environmental Impact Statement/ Environmental Impact Report on the Bair Island Restoration and Management Plan, Don Edwards San Francisco Bay National Wildlife Refuge and the Bair Island State Ecological Reserve, San Mateo County, CA and Announcement of Public Meeting

AGENCY: Fish and Wildlife Service, Interior.

ACTION: Notice of availability of EIS/EIR and public meeting.

SUMMARY: The U.S. Fish and Wildlife Service and the California Department of Fish and Game are proposing to restore to tidal action 1,400 acres of former salt ponds on Bair Island, Don Edwards San Francisco Bay National Wildlife Refuge and the Bair Island State Ecological Reserve in South San Francisco Bay.

A Draft Environmental Impact Statement/Environmental Impact Report (EIS/EIR) has been prepared jointly by the Service and the California Department of Fish and Game to analyze the impacts of the restoration plan and is available for public review. All comments received, including names and addresses, will become part of the official administrative record and may be made available to the public. The analyses provided in the Draft EIS/EIR are intended to inform the public of our proposed action, alternatives, and associated impacts; address public comments received during the scoping period for the Draft EIS/EIR; disclose the direct, indirect, and cumulative environmental effects of the proposed action and each of the alternatives; and indicate any irreversible commitment of resources that would result from implementation of the proposed action. A public meeting will be held in Redwood City, California.

Public Meeting: A public meeting to solicit comments on the draft Environmental Impact Statement will be held on September 22, 2004, from 7 p.m. to 9 p.m. at the Redwood City Veteran's Memorial Senior Center, 1455 Madison Avenue, Redwood City, California 94061. Persons needing reasonable accommodations in order to attend and participate in this public meeting should contact the Refuge Manager at (510) 792-0222 sufficiently in advance of the meeting to allow time to process the request.

DATES: A public meeting to solicit comments on the Draft Environmental Impact Statement/Report will be held September 22, 2004 from 7 p.m. to 9 p.m. in Redwood City, California.

We will accept public comments until at least 45 days after the Environmental Protection Agency (EPA) publishes its corresponding notice, which sets the public comment deadline for our EIS. In accordance with NEPA, we have filed the EIS with EPA. Each Friday, EPA publishes a Federal Register notice that lists EIS's received during the previous week. The EPA notice officially starts the public comment periods for these documents. Therefore, in accordance with that process, the EPA notice will announce the closing date for receipt of public comments on our EIS.

ADDRESSES: Public meeting location will be at the Veteran's Memorial Senior Center, 1455 Madison Ave., Redwood City, California 94061.

Send comments to Refuge Manager, U.S. Fish and Wildlife Service, San Francisco Bay NWR Complex, P.O. Box 524, Newark, California 94560. Written comments may be sent by facsimile to (510) 792-5828 or by e-mail to sfbaynwrc@r1.fws.gov.

FOR FURTHER INFORMATION CONTACT: Questions regarding the Federal National Environmental Policy Act (NEPA) process may be directed to Clyde Morris, Refuge Manager, Don Edwards San Francisco Bay NWR, at the above address; telephone (510) 792-0222.

SUPPLEMENTARY INFORMATION:

Availability of Documents

Individuals wishing copies of the Draft Environmental Impact Statement should contact the Service by letter, facsimile or e-mail to the Don Edwards San Francisco Bay National Wildlife Refuge (see ADDRESSES). The document is also available for public inspection, by appointment, during regular business hours, at the Don Edwards San Francisco Bay National Wildlife Refuge at the headquarters, #1 Marshlands Road, Fremont, California and at the Environmental Education Center, 1751 Grand Boulevard, Alviso, California. Call (510) 792-0222 if directions are needed. Copies are also available for viewing at public libraries in Redwood City (1044 Middlefield Road, Redwood City, California) and San Carlos (610 Elm Street, San Carlos, California). The document may also be viewed on the South Bay Salt Pond Restoration Project Web site http://www.southbayrestoration.org/documents.html.

Background

The Bair Island Complex is divided into three distinct areas separated by slough channels: Inner, Middle, and Outer Bair. Inner Bair Island is connected to the mainland with access from Whipple Avenue and U.S. Highway 101. Inner Bair Island is separated from Middle Bair by Smith Slough, which in turn is separated from Outer Bair by Corkscrew Slough.

Historically, Bair Island was part of a large complex of tidal marshes and mud flats within the drainage of San Francisco Bay, Redwood Creek and Steinberger Slough. Bair Island was diked in the late 1800's and early 1900's for agricultural purposes. It was converted to commercial salt ponds in 1946 and remained in production until 1965. The lands were then drained and sold to a series of real estate development companies. A local referendum in the City of Redwood City halted development plans for Bair Island. The California Department of Fish and Game (CDFG) and the Don Edwards San Francisco Bay National Wildlife Refuge (Refuge) both acquired portions of Bair Island over time. The Peninsula Open Space Trust purchased the majority of the remaining portions of Bair Island in 1999 and their interests were acquired by these agencies. Among several other landowners still remaining on Bair Island, the San Carlos Airport retains a portion of Inner Bair Island as a flight safety zone. In addition, two easements exist on Bair Island, for the Pacific Gas and Electric transmission towers and lines that run throughout the site and for the South Bayside System Authority (SBSA) force main that runs underneath most of the southern part of the levee on Inner Bair Island. Pedestrians and bicyclist currently use the top of the Inner Bair Island levee as a three-mile loop trail with a ½ mile trail cutting across Inner Bair Island during the dry season. Portions of Middle and Outer Bair Island are used for waterfowl hunting but there is little fishing occurring. Redwood Creek and to a lesser extent, Smith, Corkscrew and Steinberger Sloughs are popular recreational boating areas.

The goal of the proposed Bair Island Restoration and Management Plan is to restore Bair Island to a tidal salt marsh to provide habitat for endangered species and other native wildlife as well as to enhance the public's appreciation and awareness of the unique resources at Bair Island. Once restored, the site will assist with the preservation and recovery of both the California clapper rail and the salt marsh harvest mouse. These two species were listed by the Fish and Wildlife Service as endangered species on October 13, 1970.

Alternatives Analyzed

The Draft EIS/EIR considers five alternatives: a No Action Alternative, Alternative 1: Tidal Marsh Restoration with Moderate Public Access Alternative (Proposed Action), Alternative 2: Tidal Marsh Restoration with Restricted Public Access Alternative, Alternative 3: Tidal and Managed Marsh Restoration with Moderate Public Access Alternative and Alternative 4: Tidal and Managed Marsh with Restricted Public Access Alternative.

Under the No Action alternative, the Refuge would discontinue on-going levee maintenance and would not repair any levee breaks. The Refuge would work with the San Carlos Airport and the SBSA to protect their infrastructure on Inner Bair Island.

The existing levees on Middle and Outer Bair Island would eventually breach causing unmanaged tidal inundation of the ponds. This would result in several impacts to existing infrastructure. There would be an increase in the sedimentation rate of the Redwood Creek Shipping Channel resulting in the need for more frequent dredging by the Port of Redwood City. At least in the short-term, there would be an increase in the velocity rate of the tidal waters at the junction of Smith Slough and Redwood Creek making use of the Pete's Harbor Marina more difficult. Ponding of water on Inner Bair Island would increase the bird strike issue for the San Carlos Airport. Approximately 1,400 acres of tidal salt marsh would eventually be restored but the No Action Alternative would delay restoration of the ponds to salt marsh by 20-100 years and, at least in the short term, result in poorer quality endangered species habitat being developed compared to the four action alternatives.

In the short-term (approximately five years), the No Action alternative would provide limited public use consistent with protection of wildlife habitat and public safety. In the long term (approximately five to ten years), as the Inner Bair Island levee became unsafe, public use of the 3-mile trail would be eliminated and the area would be closed to public access. No additional public use infrastructure such as wildlife viewing platforms and interpretive signage would be installed and the Bair Island parking lot would be closed.

In Alterative 1, the Tidal Marsh Restoration with Moderate Public Access Alternative, full tidal salt marsh restoration would occur on Outer, Middle and Inner Bair Island. The levees on Middle and Outer Bair Island would be breached and dredge material would be used to raise the elevation of Inner Bair Island to prevent increasing the bird strike issue for San Carlos Airport. Following dredge material placement, the Inner Bair Island levee would be breached restoring the historic meander of Smith Slough to prevent unacceptable tidal velocities at Pete's Harbor Marina. A flow restrictor would be installed in Corkscrew Slough to prevent increased sedimentation of the Redwood Creek Shipping Channel. Approximately 1,400 acres of tidal salt marsh would be restored more quickly than the No Action Alternative for the endangered California clapper rail, salt marsh harvest mouse and other native wildlife.

A wildlife viewing platform with portage for small boats would be constructed at the flow restrictor in Corkscrew Slough. A 5 mph speed limit and no wake zone would be implemented in Smith and Corkscrew Slough to protect harbor seals and other sensitive wildlife. In addition to waterfowl hunting, Refuge guided trips would continue to be the only public access allowed on Outer and Middle Bair Island. On Inner Bair Island, 2.7 miles trails on the levee which would end at wildlife platforms adjacent to Smith Slough would replace the 3-mile loop trail. Pets (dogs only) would be allowed on the Inner Bair Island trails on a 6-foot leash for a test period to determine compliance with Refuge regulations designed to protect wildlife.

Alternative 2, the Tidal Marsh Restoration with Restricted Public Access Alternative, would be the same as the Preferred Alternative (Alternative 1) except for the following: (1) No pets would be allowed on Inner Bair Island and the public access trail would be reduced to 1.8 miles on the levee to the north ending in one wildlife viewing platform on Smith Slough, and (2) there would be a seasonal closure to boating in Corkscrew Slough to protect harbor seals. Approximately 1,400 acres of tidal salt marsh would be restored more quickly that the No Action Alternative for the endangered California clapper rail, salt marsh harvest mouse and other native wildlife.

Alternative 3, the Tidal and Managed Marsh Restoration with Moderate Public Access Alternative, would be the same as Alternative 1 except Inner Bair Island would not be restored to tidal salt marsh. Using water control structures, managed salt marsh would be created on Inner Bair Island, a flow restrictor would be built in Smith Slough to prevent an unacceptable increase in tidal velocity at Pete's Harbor Marina and the slough would not be restored to its historic meander. Approximately 1,100 acres of tidal salt marsh would be restored on Outer and Middle Bair Island more quickly than the No Action Alternative for the endangered California clapper rail, salt marsh harvest mouse and other native wildlife. Three hundred acres of managed salt marsh would be created on Inner Bair Island for the salt marsh harvest mouse but no habitat would be created for the endangered California clapper rail. Public use would be the same as Alternative 1.

Alternative 4, the Tidal and Managed Marsh Restoration with Restricted Public Access Alternative would be a mixture of Alternative 2 and Alternative 3. The restoration of 1,100 acres of tidal salt marsh and 300 acres of managed salt marsh on Inner Bair Island would be the same as Alternative 3. The restricted public access would be the same as Alternative 2.

The Service invites the public to comment on the Draft Environmental Impact Statement/Environmental Impact Report during a 45-day public comment period. The Service will evaluate the comments submitted thereon to prepare a Final Environmental Impact Statement/Environmental Impact Report. A decision will be made no sooner than 30 days after the publication of the Final Environmental Impact Statement/Environmental Impact Report.

This notice is provided pursuant to regulations for implementing the National Environmental Policy Act of 1969 (40 CFR 1506.6)

Dated: August 13, 2004.
D. Kenneth McDermond,
Acting Manager, California/Nevada Operations Office.

[FR Doc. 04-19060 Filed 8-26-04; 8:45 am]

BILLING CODE 4310-55-P